Proclamation 10462 of September 30, 2022

National Youth Justice Action Month, 2022

By the President of the United States of America

A Proclamation

During National Youth Justice Action Month, we recommit to transforming our juvenile justice system, shifting its focus from punishment to support—from the past to the future. By investing more in all children's health and well-being, our youth can build a foundation for full lives and our whole country can benefit from their unlimited potential.

Every child in America deserves a fair shot through good schools, safe communities, and equal opportunities. But some 36,000 young Americans remain confined in juvenile residential facilities, too often stuck in unsafe environments, facing adult charges or severe sentences, and living with untreated trauma that keeps them from moving forward. Young people of color and young people with disabilities are disproportionately affected. We are not giving America's children the second chances they deserve. It is time to rethink our system in order to better reach the young people who need us most with guidance and support to keep them from coming in contact with the criminal justice system in the first place.

My Administration has invested historic amounts in improving our youth justice system, increasing funding for the Department of Justice's Juvenile Justice Programs, which had seen sharp cuts. We have also invested in schools, mentorship, and job training programs, providing more than $120 billion of American Rescue Plan funding to help schools safely reopen during the pandemic, to hire more teachers and counselors, to launch afterschool and summer tutoring programs that help kids catch up, and to meet changing mental health needs. My Administration more than doubled funding for Full-Service Community Schools that support students and their families outside the classroom with important services like health care and career counseling. We have launched a national partnership to recruit 250,000 Americans to serve as tutors and mentors and called on the Congress to fund new programs that would turn juvenile detention facilities into job-training centers. Once young people come in contact with the justice system, we are working to make sure they are treated fairly—boosting access to lawyers who will fight for them and safely expanding alternatives to incarceration, including intensive job training and mentorship programs. Once they leave the system, we are helping youth to find housing, jobs, and other support. We are also urging States to expunge, seal, or vacate juvenile records where appropriate so more young Americans can move forward and build lives of dignity and opportunity.

This month, I stand with youth justice advocates in urging States and communities across the country to do more to help every child realize their full promise. I will never quit working to strengthen America's commitment to justice and building a system focused on redemption and rehabilitation, especially for our children.

NOW, THEREFORE, I, JOSEPH R. BIDEN JR., President of the United States of America, by virtue of the authority vested in me by the Constitution and the laws of the United States, do hereby proclaim October 2022 as National Youth Justice Action Month. I call upon all Americans to observe this month by taking action to support our youth and by participating in appropriate ceremonies, activities, and programs in their communities.

IN WITNESS WHEREOF, I have hereunto set my hand this thirtieth day of September, in the year of our Lord two thousand twenty-two, and of the Independence of the United States of America the two hundred and forty-seventh.

[FR Doc. 2022-21787

Filed 10-4-22; 8:45 am]

Billing code 3395-F3-P